DEPARTMENT OF COMMERCE

Bureau of Industry and Security

Action Affecting Export Privileges; Yaudat Mustafa Talyl, a.k.a. Joseph Talyi

Correction

In notice document 04-21558 beginning on page 57672, in the issue of Monday September 27, 2004, make the following correction:

On page 57672, in the third column, after the subject heading, in the first paragraph, in the fourth line, “5600” should read “ 5060”.

[FR Doc. C4-21558 Filed 9-30-04; 8:45 am]

BILLING CODE 1505-01-D